DEPARTMENT OF DEFENSE

Office of the Secretary

[Docket ID DoD-2013-OS-0166]

Privacy Act of 1974; System of Records

AGENCY: Office of the Inspector General, DoD.

ACTION: Notice to alter a System of Records.

SUMMARY: The Office of the Inspector General proposes to alter a system of records, CIG-16, Defense Case Activity Tracking System (D-CATS), in its inventory of record systems subject to the Privacy Act of 1974 (5 U.S.C. 552a), as amended. This system records complaints, allegations of wrongdoing, and requests for assistance; documents inquiries; compiles statistical information; provides prompt, responsive and accurate information regarding the status of ongoing cases; provides a record of complaint disposition and records actions taken and notifications of interested parties and agencies.

DATES: This proposed action will be effective on August 26, 2013 unless comments are received which result in a contrary determination. Comments will be accepted on or before August 26, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mark Dorgan, DoD IG FOIA/Privacy Office, Department of Defense, Inspector General, 4800 Mark Center Drive, Alexandria, VA 22350-1500 or telephone: (703) 699-5680.

SUPPLEMENTARY INFORMATION: The Office of the Inspector General notices for systems of records subject to the Privacy Act of 1974 (5 U.S.C. 552a), as amended, have been published in the Federal Register and are available from the address in FOR FURTHER INFORMATION CONTACT or from the Defense Privacy and Civil Liberties Web site at http://dpclo.defense.gov/privacy/SORNs/component/oig/index.html.

The proposed systems reports, as required by 5 U.S.C. 552a of the Privacy Act of 1974, were submitted on July 10, 2013, to the House Committee on Oversight and Government Reform, the Senate Committee on Homeland Security and Governmental Affairs, and the Office of Management and Budget (OMB) pursuant to paragraph 4c of Appendix I to OMB Circular No. A-130, “Federal Agency Responsibilities for Maintaining Records about Individuals,” dated February 8, 1996, (February 20, 1996, 61 FR 6427).

Dated: July 17, 2013.
Aaron Siegel,
Alternate OSD Federal Register Liaison Officer, Department of Defense.

CIG-16

System name:

DoD Hotline Program Case Files (October 15, 2008, 73 FR 61089).

Changes:

* * * * *

System Name:

Delete entry and replace with “Defense Case Activity Tracking System (D-CATS).”

System location:

Delete entry and replace with “DoD Hotline, Office of Communications and Congressional Liaison, and Office of the Assistant Inspector General for Administrative Investigations, Office of the Inspector General of the Department of Defense (DoD), 4800 Mark Center Drive, Alexandria, VA 22350-1500.”

* * * * *

Categories of records in the system:

Delete entry and replace with “Individual's name, and case number; records resulting from the referral of, and inquiry into, hotline complaints, whistleblower reprisal investigations, improper mental health evaluations and senior official investigations, including the allegations submitted to the DoD Inspector General, referral documents to DoD components, investigative reports, information received from witnesses, records of action taken, disposition of the case, and supporting documentation.”

Authority for maintenance of the system:

Delete entry and replace with “Public Law 95-452 as amended, Inspector General Act of 1978; and DoD Directive 5106.01, Inspector General of the Department of Defense.”

Purpose(s):

Delete entry and replace with “To record complaints, allegations of wrongdoing, and requests for assistance; to document inquiries; to compile statistical information; to provide prompt, responsive and accurate information regarding the status of ongoing cases; to provide a record of complaint disposition and to record actions taken and notifications of interested parties and agencies.

Complaints appearing to involve criminal wrongdoing will be referred to the Defense Criminal Investigative Service or other criminal investigative units of DoD components.”

* * * * *

Retrievability:

Delete entry and replace with “By individual's name, subject matter, or case number.”

Safeguards:

Delete entry and replace with “Full access is limited to DoD Hotline and Administrative Investigations staff. Read only access is provided to authorized DoD IG personnel consistent with their official duties. Paper and automated records are stored in rooms protected by cipher lock. The automated system is restricted to personnel with designated access, and regular back-ups of data are performed.”

Retention and disposal:

Delete entry and replace with “Hotline case files not referred for further review are destroyed after 2 years. Automated and paper records of Hotline cases referred for investigation, whistleblower reprisal cases and senior official cases are destroyed ten years after case closure.”

System manager(s) and address:

Delete entry and replace with “Assistant Inspector General for Administration and Management, Office of the Inspector General of the Department of Defense, 4800 Mark Center Drive, Alexandria, VA 22350-1500.”

Notification procedure:

Delete entry and replace with “Individuals seeking to determine whether information about themselves is contained in this system should address written inquiries to the Chief, Freedom of Information Act Requester Service Center/Privacy Act Office, Assistant Inspector General for Communications and Congressional Liaison, Office of the Inspector General, DoD, 4800 Mark Center Drive, Alexandria, VA 22350-1500.

For verification purposes, individuals shall provide their full name, address, any details that may assist in locating records of the individual and their signature.

In addition, the requester must provide a notarized statement or a signed declaration made in accordance with 28 U.S.C. 1746, in the following format:

If executed outside the United States:

`I declare under penalty of perjury under the laws of the United States of America that the foregoing is true and correct. Executed on (date).' (Signature).

If executed within the United States, its territories, possessions, or commonwealths: `I declare under penalty of perjury that the foregoing is true and correct. Executed on (date).' (Signature).”

Record access procedures:

Delete entry and replace with “Individuals seeking access to information about themselves contained in this system should address written inquiries to the Chief, Freedom of Information Act Requester Service Center/Privacy Act Office, Assistant Inspector General for Communications and Congressional Liaison, Office of the Inspector General, DoD, 4800 Mark Center Drive, Alexandria, VA 22350-1500.

For verification purposes, individuals shall provide their full name, address, any details that may assist in locating records of the individual and their signature.

In addition, the requester must provide a notarized statement or a signed declaration made in accordance with 28 U.S.C. 1746, in the following format:

If executed outside the United States: `I declare under penalty of perjury under the laws of the United States of America that the foregoing is true and correct. Executed on (date).' (Signature).

If executed within the United States, its territories, possessions, or commonwealths: `I declare under penalty of perjury that the foregoing is true and correct. Executed on (date).' (Signature).”

* * * * *

[FR Doc. 2013-17960 Filed 7-25-13; 8:45 am]

BILLING CODE 5001-06-P